SMALL BUSINESS ADMINISTRATION

[Declaration of Disaster # 3419]

State of Massachusetts; (and Contiguous Counties in New Hampshire)

Essex County and the contiguous counties of Middlesex and Suffolk in the Commonwealth of Massachusetts; and Hillsborough and Rockingham Counties in New Hampshire constitute a disaster area as a result of a fire that occurred in the City of Gloucester on June 1, 2002. The fire destroyed a 42 unit condominium complex. Applications for loans for physical damage may be filed until the close of business on August 13, 2002 and for economic injury until the close of business on March 12, 2003 at the address listed below or other locally announced locations: U.S. Small Business Administration, Disaster Area 1 Office, 360 Rainbow Blvd., South 3rd Floor, Niagara Falls, NY 14303.

The interest rates are:

| Percent
For Physical Damage:
Homeowners with credit available elsewhere | 6.750
Homeowners without credit available elsewhere | 3.375
Businesses with credit available elsewhere | 7.000
Businesses and non-profit organizations without credit available elsewhere | 3.500
Others (including non-profit organizations) with credit available elsewhere | 6.375
For Economic Injury
Businesses and small agricultural cooperatives without credit available elsewhere | 3.500

The number assigned to this disaster for physical damage is 341905 for Massachusetts and 342005 for New Hampshire. The number assigned to this disaster for economic injury is 9Q1000 for Massachusetts and 9Q1100 for New Hampshire.

(Catalog of Federal Domestic Assistance Program Nos. 59002 and 59008)

Dated: June 12, 2002.
Hector V. Barreto,
Administrator.

[FR Doc. 02-15491 Filed 6-19-02; 8:45 am]

BILLING CODE 8025-01-P